DEPARTMENT OF COMMERCE

National Oceanic and Atmospheric Administration

50 CFR Part 648

[Docket No. 230804-0183]

RIN 0648-BM06

Fisheries of the Northeastern United States; Monkfish; Framework Adjustment 13

AGENCY: National Marine Fisheries Service (NMFS), National Oceanic and Atmospheric Administration (NOAA), Department of Commerce.

ACTION: Final rule.

SUMMARY: NMFS is implementing specifications submitted by the New England and Mid-Atlantic Fishery Management Councils (collectively, the Councils) in Framework Adjustment 13 to the Monkfish Fishery Management Plan (FMP). This action sets monkfish specifications for fishing years 2023 through 2025, adjusts annual Days-At-Sea (DAS) allocations, and, beginning in fishing year 2026, increases the minimum gillnet mesh size for vessels fishing on monkfish DAS. This action is needed to establish allowable monkfish harvest levels and management measures that will prevent overfishing and reduce bycatch.

DATES: Effective August 11, 2023.

ADDRESSES: Copies of the Framework 13 document, including the Regulatory Flexibility Act Analysis and other supporting documents for the specifications, are available from Thomas A. Nies, Executive Director, New England Fishery Management Council, 50 Water Street, Mill 2, Newburyport, MA 01950. The specifications document is also accessible via the internet at: https://www.nefmc.org/management-plans/monkfish.

FOR FURTHER INFORMATION CONTACT: Spencer Talmage, Fishery Policy Analyst, (978) 281-9232.

SUPPLEMENTARY INFORMATION:

Background

The monkfish fishery is jointly managed under the Monkfish Fishery Management Plan (FMP) by the New England and the Mid-Atlantic Fishery Management Councils (collectively, the Councils). The fishery extends from Maine to North Carolina from the coast out to the end of the continental shelf. The Councils manage the fishery as two management units, with the Northern Fishery Management Area (NFMA) covering the Gulf of Maine and northern part of Georges Bank, and the Southern Fishery Management Area (SFMA) extending from the southern flank of Georges Bank through Southern New England and into the Mid-Atlantic Bight to North Carolina.

The monkfish fishery is primarily managed by landing limits and a yearly allocation of monkfish days-at-sea (DAS) calculated to enable vessels participating in the fishery to catch, but not exceed, the target total allowable landings (TAL) and the annual catch target (ACT), which is the sum of the TAL and the estimate of expected discards, for each management area.

Under the Magnuson-Stevens Fishery Conservation and Management Act (Magnuson-Stevens Act, or MSA), we approve, disapprove, or partially approve measures that the Council proposes, based on consistency with the Act and other applicable law. We review proposed regulations for consistency with the fishery management plan, plan amendments, the Magnuson-Stevens Act and other applicable law, and publish the proposed regulations, solicit public comment, and promulgate the final regulations. We have approved all the measures in Framework 13 recommended by the Councils, as described below. The measures implemented in this final rule:

• Set specifications, for the NFMA and SFMA for fishing years 2023 through 2025;

• Adjust the annual DAS allocation to limited access monkfish vessels; and

• Increase the minimum gillnet mesh size for vessels on a monkfish DAS or fishing in the Gulf of Maine/Georges Bank Dogfish and Monkfish Gillnet Fishery Exemption starting in fishing year 2026.

This action also makes regulatory corrections that are not part of Framework 13, but that are implemented under our section 305(d) authority in the Magnuson-Stevens Act to make changes necessary to carry out the FMP. We are making these corrections in conjunction with the Framework 13 measures in the interest of efficiency.

1. Specifications

This action sets the NFMA and SFMA quotas for fishing years 2023 through 2025 (Table 1), based on the Councils' recommendations, which are consistent with the recommendations from the New England Council's Scientific and Statistical Committee (SSC) from January 2023. Further information on the development of these specifications by the SSC and Councils is available in the proposed rule (88 FR 25351).

The approved specifications include a 25-percent decrease in the acceptable biological catch (ABC) and annual catch limit (ACL) in the NFMA and a 52-percent decrease in the ABC and ACL in the SFMA, when compared to the 2020-2022 specifications. Discards, which are calculated using the median of the most recent 10 years of data, decreased in both areas, but more significantly in the SFMA. After accounting for discards, the specifications result in a 20-percent decrease in the TAL for the NFMA and a 41-percent decrease in the TAL for the SFMA.

Table 1—Framework 13 Specifications
Catch limits | Northern area: 2023-2025 Specs (mt) | Northern area: Percent change from 2022 * | Southern area: 2023-2025 Specs (mt) | Southern area: Percent change from 2022 *
Acceptable Biological Catch | 6,224 | −25 | 5,861 | −52
Annual Catch Limit | 6,224 | −25 | 5,861 | −52
Management Uncertainty (3%) | 187 |  | 176 |
Annual Catch Target (Total Allowable Landings + discards) | 6,038 | −25 | 5,685 | −52
Expected Discards | 729 | −51 | 2,205 | −64
Total Allowable Landings | 5,309 | −20 | 3,481 | −41
* Percent change from the previously approved 2020-2022 specifications.

At the end of each fishing year, we evaluate catch information and determine whether the quota has been exceeded. The regulations at 50 CFR 648.96(d) require the Councils to revise the monkfish ACT in the following year if it determines that the annual catch limit was exceeded in any given year. If the Councils fail to act, NMFS will revise the monkfish ACT. Publication of a notification in the Federal Register will accompany any revisions to these specifications if an overage occurs. We expect, based on preliminary 2022 year-end accounting, that no adjustment is necessary for fishing year 2023. We will provide notice of the 2024 and 2025 quotas prior to the start of each respective fishing year.

2. Annual DAS Allocations

To ensure that the fishery can meet, but not exceed, the new TALs for 2023-2025, this action changes the yearly DAS allocation to limited access monkfish vessels. First, the initial allocation of DAS that could previously be used in any area is now split into separate DAS allocations for each of the NFMA and SFMA. Under this change, each limited access vessel is allocated 35 DAS for the NFMA and 37 DAS for the SFMA. Second, the 37 DAS usage restriction for the SFMA is removed and replaced with a new general DAS usage restriction that prohibits any vessel from using more than 46 allocated DAS during each fishing year. Third, the annual deduction of Research Set-Aside DAS from each limited access vessel's DAS allocation is applied proportionally to the separate DAS allocations for the NFMA and SFMA. The DAS carryover provisions are not changed by this action; vessels would be eligible for up to 4 carryover DAS in each fishing year that would not count against the allocation limits in either area or the general allocated DAS usage restriction.

3. Minimum Gillnet Mesh Size Increase

To reduce bycatch of small monkfish, this action increases the minimum gillnet mesh size for vessels on a monkfish DAS or fishing in the Gulf of Maine/Georges Bank Dogfish and Monkfish Gillnet Fishery Exemption from 10 inches (25.4 cm) to 12 inches (30.5 cm) diamond mesh. This change will go into effect at the beginning of May 1, 2026. The additional time is intended to allow any affected vessels not already using the larger mesh size time to make the transition as part of the normal operation and replacement of worn nets. We expect that the delayed implementation will reduce the overall cost of this measure to industry.

4. Regulatory Corrections

Using our authority under section 305(d) of the Magnuson-Stevens Act, this action clarifies the regulation at § 648.92(b)(2)(iii)(B) that describes the interaction between the Northeast (NE) multispecies DAS leasing program at § 648.82(k) and monkfish DAS balances for category C, D, F, G, or H vessels that choose to lease Northeast multispecies DAS.

When a category C, D, F, G, or H vessel leases Northeast multispecies DAS to another vessel(s), a certain number of monkfish DAS owned by the lessor vessel become unavailable for use.

The changes to § 648.92(b)(2)(iii)(B) more clearly describe the interaction between the NE multispecies DAS leasing program and monkfish DAS balances for category C, D, F, G, or H vessels that choose to lease Northeast multispecies DAS. The changes do not substantively change the way in which monkfish DAS balances are affected by leases of Northeast multispecies DAS.

Comments and Responses on Measures Proposed in the Framework 13 Proposed Rule

We received two comments on the Framework 13 proposed rule, both from members of the public.

General Comments on Framework 13

Comment 1: An individual commented in support of Framework 13, noting that the Council-recommended and NMFS-proposed specifications would decrease allowable monkfish catch and promote a healthy marine ecosystem without resulting in a significant economic impact on a substantial number of small entities.

Response 1: We agree that the specifications recommended by the Councils and implemented through this action will prevent overfishing and result in sustainable management of the monkfish resource.

Comment 2: An individual commented that input from fishermen and commercial fishing organizations should be more transparently incorporated into the regulatory process. The commenter also noted that some content available on the NOAA Fisheries website is out of date and should include more social science information.

Response 2: Fishery management in the United States is a transparent and public process of science, management, and collaboration with the fishing industry, as laid out by the Magnuson-Stevens Act. Framework Adjustment 13 was jointly developed by the Councils. The Councils held several public meetings throughout 2022 and in January 2023. During these meetings, the development of Framework 13 and the underlying science, including social sciences, was discussed, with opportunity for public comment. Input from fishermen and other industry stakeholders was a key component to the development of this action. Engagement by the public in meetings of the Monkfish Committee and Advisory Panel directly contributed to actions taken by the Councils to request that the SSC reconsider their October ABC recommendations. Concerns raised by the public were considered by the SSC and addressed in a new recommendation that is being adopted by this final rule for Framework 13.

NMFS will continue to review website content and address instances of outdated website content identified in the comment.

Classification

NMFS is issuing this rule pursuant to sections 304(b)(3) and 305(d) of the MSA, which provide specific authority for implementing this action. Additionally, this rule contains a regulatory correction being issued pursuant to MSA section 305(d) that is necessary to carry out the Monkfish FMP. The correction is necessary to carry out the Monkfish FMP because it clarifies regulations describing how monkfish DAS are managed in relation to the Northeast multispecies DAS leasing program. A clear description of this process is necessary for the public and industry to understand it and make decisions regarding management of DAS. Though this correction is included in this final rule to implement Framework 13, it is not part of Framework 13 as approved by the Councils. The lack of clarity in the current regulatory text was discovered after the approval of Framework 13 by the Councils and could not be included. Making this correction pursuant to section 305(d) authority allows for the correction to be implemented more quickly than otherwise possible. Though the correction is consistent with the FMP and review was not necessary, the Councils did receive the opportunity to review the change to the regulatory text as necessary and appropriate.

The NMFS Assistant Administrator has determined that this final rule is consistent with the Monkfish FMP, other provisions of the Magnuson-Stevens Act, and other applicable law.

There is good cause under 5 U.S.C. 553(d)(3) to waive the 30-day delayed effectiveness of this action. This action, which includes measures for fishing year 2023, was jointly developed by the Councils as part of the annual Framework Adjustment process, with final action by the Councils expected in December 2022 in order to allow for implementation of measures in time for the May 1, 2023 start of fishing year 2023. However, the Council process was delayed to provide time for SSC to re-evaluate its ABC recommendations for 2023 through 2025. As a result of this delay, specifications were not in place for the start of the 2023 fishing year, and the monkfish fishery has been operating under an interim status without specifications and a DAS allocation scheme that is planned to be replaced by this action. Additionally, between the publication of the proposed rule for Framework 13 and the development of this final rule, it was estimated that gillnet take of Atlantic Sturgeon exceeded limits in the 2021 Batched Biological Opinion. This rule could not be published sooner, as time was necessary to understand the implications of this new information and whether this action would be likely to result in changes to, or the addition of, adverse impacts to Endangered Species Act-listed species.

A further delay in effectiveness of this action would be contrary to the public interest, as it would extend the amount of time in which no specifications are in place for fishing year 2023, rather than replacing them with the quotas, based in the best available science, in this rule. It additionally extends the amount of time during which the fishery continues to operate under previous DAS allocations. It is necessary for vessels to monitor their usage of allocated DAS in order to ensure that they do not exceed DAS allocations, a violation of the regulations. Though the agency provides vessels with current DAS balances, these are provided relative to the previous DAS allocations. Upon effectiveness of this action, DAS balances are re-calculated to reflect the new DAS scheme being implemented, which differs from the previous DAS allocation scheme by separating DAS allocations by area. During the period prior to the effective date of FW13, vessels must manually track their DAS usage to ensure that they do not exceed the new allocation scheme. As the fishing year advances and vessels continue to fish and use DAS, the chances are greater that a vessel may exceed the new DAS allocation scheme. Waiving the 30-day delayed effectiveness of this action would provide vessels with their final allocations as soon as possible and eliminate the chances of accidental violations of the regulations by vessels confused about how many DAS they are allocated and where these DAS may be used.

This final rule has been determined to be not significant for the purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995.

List of Subjects in 50 CFR Part 648

Fisheries, Fishing.

Dated: August 7, 2023.
Samuel D. Rauch, III,
Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

2. Amend § 648.10 by revising paragraph (g)(3)(ii) to read as follows:

§ 648.10 VMS and DAS requirements for vessel owners/operators.

* * * * *

(g) * * *

(3) * * *

(ii) An operator of a vessel issued both a NE multispecies permit and a monkfish permit is authorized to change their DAS declaration from a NE multispecies Category A DAS to a monkfish DAS, while remaining subject to the NE multispecies DAS usage requirements under § 648.92(b)(1)(iv), during a trip, as provided at § 648.92(b)(1)(vi)(A).

* * * * *

3. Amend § 648.14 by revising paragraphs (m)(2)(i) and (m)(3)(ii) to read as follows:

§ 648.14 Prohibitions.

* * * * *

(m) * * *

(2) * * *

(i) Fish with or use nets with mesh size smaller than the minimum mesh size specified in § 648.91(c) while fishing under a monkfish DAS, except as authorized by § 648.91(c)(1)(v).

* * * * *

(3) * * *

(ii) Fail to comply with the Northern Fishery Management Area (NFMA) or Southern Fishery Management Area (SFMA) requirements specified at § 648.92(b)(1)(v).

* * * * *

4. Amend § 648.80 by revising paragraph (a)(13)(i)(B) to read as follows:

§ 648.80 NE Multispecies regulated mesh areas and restrictions on gear and methods of fishing.

* * * * *

(a) * * *

(13) * * *

(i) * * *

(B) The minimum mesh size for gillnets are as follows:

(1) Through April 30, 2026, all gillnets must have a minimum mesh size of 10-inch (25.4-cm) diamond mesh throughout the net.

(2) Starting May 1, 2026, all gillnets must have a minimum mesh size of 12-inch (30.5-cm) diamond mesh throughout the net.

* * * * *

5. Amend § 648.91 by revising paragraphs (c)(1)(iii) and (iv) and adding paragraphs (c)(1)(v) and (vi) to read as follows:

§ 648.91 Monkfish regulated mesh areas and restrictions on gear and methods of fishing.

* * * * *

(c) * * *

(1) * * *

(iii) Gillnets while on a monkfish DAS for fishing years 2023, 2024, and 2025. Until April 30, 2026, the minimum mesh size for any gillnets used by a vessel fishing under a monkfish DAS is 10-inch (25.4-cm) diamond mesh, unless the vessel meets one of the exceptions in paragraph (c)(1)(v) of this section.

(iv) Gillnets while on a monkfish DAS from fishing year 2026 and beyond. Starting May 1, 2026, the minimum mesh size for any gillnets used by a vessel fishing under a monkfish DAS is 12-inch (30.5-cm) diamond mesh, unless the vessel meets one of the exceptions in paragraph (c)(1)(v) of this section.

(v) Exceptions from the minimum mesh size for gillnets on a monkfish DAS. A vessel fishing with gillnet gear under a monkfish DAS is subject to the minimum mesh size as defined in paragraph (c)(1)(iii) or (iv) of this section, unless:

(A) The owner or operator of a limited access NE multispecies vessel fishing under a NE multispecies category A DAS with gillnet gear in the NFMA changes the vessel's DAS declaration to a monkfish DAS through the vessel's VMS unit during the trip in accordance with the provisions specified under § 648.92(b)(1)(vi);

(B) A vessel issued a Category C or D limited access monkfish permit is fishing under both a monkfish and NE multispecies Category A DAS in the SFMA using roundfish gillnets, as defined at § 648.2, with 6.5-inch (16.5-cm) diamond mesh;

(C) A vessel issued a limited access monkfish permit is fishing on a monkfish-only DAS in the Mid-Atlantic Exemption Area using roundfish gillnets with a minimum mesh size of 5 inches (12.7 cm) in accordance with the provisions specified under § 648.80(c)(5); or

(D) A vessel issued a limited access monkfish permit is fishing on a monkfish-only DAS in the Southern New England Dogfish Exemption Area using roundfish gillnets with a minimum mesh size of 6 inches (15.2 cm) in accordance with the provisions specified under § 648.80(b)(7).

(vi) Authorized gear while on a monkfish and scallop DAS. Vessels issued a Category C, D, G, or H limited access monkfish permit and fishing under a monkfish and scallop DAS may only fish with and use a trawl net with a mesh size no smaller than that specified in paragraph (c)(1)(i) of this section.

* * * * *

6. Amend § 648.92 by revising paragraphs (b)(1)(i) through (v), adding paragraph (b)(1)(vi), and revising paragraphs (b)(2)(ii), (b)(2)(iii)(B), and (c)(1)(ii)(A) to read as follows:

§ 648.92 Effort-control program for monkfish limited access vessels.

* * * * *

(b) * * *

(1) * * *

(i) DAS allocations. Each vessel issued a limited access monkfish permit will be allocated 35 monkfish DAS each fishing year that may be used only in the Northern Fishery Management Area as defined in § 648.91(a). Each vessel issued a limited access monkfish permit will also be allocated 37 monkfish DAS each fishing year that may be used only in the Southern Fishery Management Area as defined in § 648.91(b). The annual allocation of monkfish DAS to each vessel issued a limited access monkfish permit in the NFMA and SFMA shall be reduced by the amount calculated in paragraph (b)(1)(iii) of this section for the research DAS set-aside. All DAS must be used in accordance with the provisions of this paragraph (b) unless the permit is enrolled in the Offshore Fishery Program in the SFMA, as specified in paragraph (b)(1)(ii) of this section.

(ii) Offshore fishery program DAS allocation. A vessel issued a Category F permit, as described in § 648.95, shall be allocated a prorated number of monkfish DAS as specified in § 648.95(g)(2).

(iii) Research DAS set-aside. A total of 500 DAS will be set aside and made available for cooperative research programs as described in paragraph (c) of this section. These DAS shall be deducted proportionally from the DAS allocated to each vessel issued a limited access monkfish permit by the process prescribed in this paragraph (b)(1)(iii).

(A) Calculating the total per vessel DAS deduction. The total per vessel DAS deduction will be calculated as the quotient of 500 divided by the total number of limited access permits issued in the previous fishing year.

(B) Calculating the per vessel DAS deduction for the NFMA and SFMA. The total vessel DAS deduction will be distributed proportionally to the DAS for the NFMA and SFMA allocated to each vessel issued a monkfish limited access permit, as specified in paragraph (b)(1)(i) of this section. To determine the per-vessel deduction from the NFMA DAS allocation, the total per vessel deduction will be multiplied by the quotient of the NFMA DAS allocation divided by the total number of DAS allocated to each monkfish limited access vessel. To determine the per-vessel deduction from the SFMA DAS allocation, the NFMA deduction will be subtracted from the total per vessel deduction.

(C) Example. If, in the current year, each vessel is allocated 30 NFMA DAS and 20 SFMA DAS, then the total vessel DAS allocation is 50 DAS. In this example, 625 limited access monkfish permits were issued in the previous year. Dividing 500 by the 625 permits equals a total per-vessel DAS deduction of 0.8 DAS. Dividing the NFMA allocation of 30 DAS by the total DAS allocation of 50 DAS equals 0.6. Multiplying 0.6 by 0.8 equals an NFMA DAS deduction of 0.48, which is rounded to 0.5. Subtracting the 0.5 NFMA DAS deduction from the total per vessel deduction of 0.8 results in an SFMA DAS deduction of 0.3 DAS. The result of is that each limited access monkfish vessel would be allocated 29.5 NFMA DAS and 19.7 SFMA DAS.

(iv) General DAS usage restrictions. A vessel issued a limited access monkfish permit may not use more than 46 allocated monkfish DAS in a fishing year. Unless otherwise specified in paragraph (b)(2) of this section or under this subpart, a vessel issued a limited access NE multispecies or limited access Atlantic sea scallop permit that is also issued a limited access monkfish permit must use a NE multispecies or sea scallop DAS concurrently with each monkfish DAS utilized.

(v) DAS declaration requirements. Each vessel issued a limited access monkfish permit that intends to fish under a monkfish DAS must declare that it will fish in either the NFMA or SFMA through the vessel call-in system or VMS prior to the start of each trip. A vessel fishing or intending to fish for, possessing, or landing monkfish under a NE multispecies, scallop, or monkfish DAS under the management measures of the NFMA, must fish exclusively in the NFMA for the entire trip. In addition, a vessel that is not required to and does not possess a VMS unit must declare its intent to fish in the NFMA by obtaining a letter of authorization from the Regional Administrator, which is effective for a period of not less than 7 days, and fish exclusively in the NFMA during the effective period of that letter of authorization. A vessel that has not declared into the NFMA under this paragraph (b)(1)(v) shall be presumed to have fished in the SFMA and shall be subject to the requirements of that area. A vessel that has declared into the NFMA may transit the SFMA, providing that it complies with the transiting and gear storage provision described in § 648.94(e).

(vi) Monkfish Option provision and declaration requirements. Any limited access NE multispecies vessel fishing on a sector trip or under a NE multispecies Category A DAS in the NFMA, and issued an LOA as specified in paragraph (b)(1)(v) of this section, may change its DAS declaration to a monkfish DAS through the vessel's VMS unit during the course of the trip after leaving port, but prior to crossing the VMS demarcation line upon its return to port or leaving the NFMA, if the vessel exceeds the incidental catch limit specified under § 648.94(c).

(A) Vessels that change their DAS declaration from a NE multispecies Category A DAS to a monkfish DAS during a trip remain subject to the NE multispecies DAS usage requirements (i.e., use a NE multispecies Category A DAS in conjunction with the monkfish DAS) described in paragraph (b)(2)(iv) of this section.

(B) Gillnet vessels that change their DAS declaration in accordance with this paragraph (b)(1)(vi) are not subject to the gillnet minimum mesh size restrictions found at § 648.91(c)(1)(iii) and (iv) but are subject to the smaller NE multispecies minimum mesh requirements for gillnet vessels found under § 648.80 based upon the NE Multispecies Regulated Mesh Area in which the vessel is fishing.

(2) * * *

(ii) Monkfish-only DAS. When a vessel issued a limited access monkfish Category C, D, F, G, or H permit and a limited access NE multispecies DAS permit has an allocation of NE multispecies Category A DAS, specified under § 648.82(d)(1), that is less than the number of monkfish DAS allocated for the fishing year May 1 through April 30, that vessel shall be allocated “monkfish-only” DAS equal to the difference between the number of its allocated monkfish DAS and the number of its allocated NE multispecies Category A DAS at the start of a fishing year. For example, if a vessel issued a limited access monkfish Category D permit is allocated 30 monkfish DAS for use in the Northern Fishery Management Area, 20 monkfish DAS for use in the Southern Fishery Management Area, and 26 NE multispecies Category A DAS, it would have 24 monkfish-only DAS at the start of each fishing year. The available balance of monkfish-only DAS may vary throughout the fishing year based upon monkfish-only DAS usage and the acquisition or relinquishment of NE multispecies DAS under the NE Multispecies DAS Leasing Program, as specified in paragraph (b)(2)(iii) of this section. A vessel issued a limited access monkfish Category C, D, F, G, or H permit may use monkfish-only DAS without the concurrent use of a NE multispecies DAS at any time throughout the fishing year, regardless of the number of NE multispecies Category A DAS available. When fishing under a monkfish-only DAS, the vessel must fish under the regulations in this part pertaining to a limited access monkfish Category A or B permit, as applicable, and may not retain any regulated NE multispecies. For example, a vessel issued a limited access monkfish Category C permit must comply with the monkfish landing limits applicable to a Category A monkfish permit when fishing under a monkfish-only DAS.

(iii) * * *

(B) A vessel issued a limited access monkfish Category C, D, F, G, or H permit may forfeit some of its monkfish DAS, if it leases NE multispecies DAS to another vessel(s), pursuant to § 648.82(k). The number of monkfish DAS forfeited by a vessel depends on its balance of Monkfish and NE multispecies DAS at the time of the lease. Any forfeited monkfish DAS will be deducted proportionally between the DAS allocated to the vessel for use in the Northern Fishery Management Area and Southern Fishery Management Area in paragraph (b)(1)(i) of this section.

(1) If the vessel's unused monkfish DAS balance is greater than or equal to its unused NE multispecies DAS balance, at the time of the lease, then the vessel will forfeit an amount of monkfish DAS equal to the number of NE multispecies DAS being leased to another vessel. For example, if a vessel has 40 monkfish DAS and 30 NE multispecies DAS and it leases 10 NE multispecies DAS in accordance with § 648.82(k), then, as part of the lease, the vessel would forfeit 10 monkfish DAS and be left with 30 monkfish DAS and 20 multispecies DAS.

(2) If the vessel's unused monkfish DAS balance is less than its unused NE multispecies DAS balance, at the time of lease, then the vessel will forfeit an amount of monkfish DAS equal to the number of NE multispecies DAS being leased minus the difference between the vessel's unused NE multispecies DAS balance and the vessel's unused monkfish DAS balance. If the number of NE multispecies DAS being leased is less than the difference between the vessel's unused NE multispecies DAS balance and the vessel's unused monkfish DAS balance, then no monkfish DAS are forfeited. For example, if a vessel has 25 monkfish DAS and 30 NE multispecies DAS at the time of the lease, and it leases 10 NE multispecies DAS, the vessel would forfeit 5 monkfish DAS (10 leased −[30 NE multispecies DAS − 25 monkfish DAS] = 5 forfeited monkfish DAS). If, however, the vessel has 25 monkfish DAS and 40 NE multispecies and the vessel leases 10 NE multispecies DAS, it would not forfeit any monkfish DAS (10 leased NE multispecies DAS −[40 NE multispecies DAS −25 monkfish DAS] = −5. The number of DAS forfeited cannot be negative, so 0 DAS are forfeited).

* * * * *

(c) * * *

(1) * * *

(ii) * * *

(A) Each panel member shall recommend which research proposals should be authorized to utilize the research DAS set aside in accordance with paragraph (b)(1)(iii) of this section, based on the selection criteria described in the RFP.

* * * * *

§ 648.94 [Amended]

7. Amend § 648.94 by removing and reserving paragraph (f).

8. Amend § 648.95 by revising paragraph (e)(3) to read as follows:

§ 648.95 Offshore Fishery Program in the SFMA.

* * * * *

(e) * * *

(3) A vessel issued a limited access monkfish Category F permit fishing on a monkfish DAS is subject to the minimum mesh size requirements specified in § 648.91(c)(1)(i), (iii) and (iv), as well as the other gear requirements specified in § 648.91(c)(2) and (3).

* * * * *

[FR Doc. 2023-17198 Filed 8-10-23; 8:45 am]

BILLING CODE 3510-22-P